DEPARTMENT OF HEALTH AND HUMAN SERVICES

Office of the National Security Assistant Deputy Secretary of National Security Statement of Delegation of Authority

Notice is hereby given that I have delegated to the Assistant Deputy Secretary for National Security within the Office of the Secretary (OS), Immediate Office of the Secretary (IOS), Office of National Security (ONS), the authorities vested in me as the Secretary of Health and Human Services for managing the Controlled Unclassified Information Program under Executive Order 13556, now and hereafter.

This authority may be redelegated, but only within ONS. Exercise of this authority shall be in accordance with established policies, procedures, guidelines, and regulations as prescribed by the E.O. 13556 and 32 CFR part 2002 “Controlled Unclassified Information.”

This delegation of authority is effective immediately upon signature.

Dated: March 15, 2023.
Xavier Becerra,
Secretary.

[FR Doc. 2023-05637 Filed 3-17-23; 8:45 am]

BILLING CODE P